GENERAL SERVICES ADMINISTRATION

[GSA Bulletin FPMR D-260]

Public Buildings Space

This notice contains GSA Bulletin FPMR D-260 which announces the redesignation of 12 Federal Buildings. The text of the bulletin follows:

To: Heads of Federal Agencies.

Subject: Redesignations of Federal Buildings.

1. Purpose. This bulletin announces the redesignations of 12 Federal Buildings.

2. Expiration date. This bulletin expires June 14, 2002. However, the building redesignations announced by this bulletin will remain in effect until canceled or superseded.

3. Redesignations. The former and new names of the buildings being redesignated are as follows:

Former name | New name
United States Courthouse, 201 West Broad Avenue, Albany, GA 31701. | C.B. King United States Courthouse, 201 West Broad Avenue, Albany, GA 31701.
Federal Building and United States Courthouse, 1300 South Harrison Street, Fort Wayne, IN 46802. | E. Ross Adair Federal Building and United States Courthouse, 1300 South Harrison Street, Fort Wayne, IN 46802.
United States Courthouse, 500 Pearl Street, New York, NY 10007 | Daniel Patrick Moynihan United States Courthouse, 500 Pearl Street, New York, NY 10007.
Department of State, 2201 C Street, NW., Washington, DC 20520 | Harry S. Truman Federal Building, 2201 C Street, NW., Washington, DC 20520.
United States Courthouse, One Courthouse Way, Boston, MA 02210 | John Joseph Moakley United States Courthouse, One Courthouse Way, Boston, MA 02210.
Federal Building and United States Courthouse, 504 West Hamilton Street, Allentown, PA 18101 | Edward N. Cahn Federal Building and United States Courthouse, 504 West Hamilton Street, Allentown, PA 18101.
Federal Building, 6230 Van Nuys Boulevard, Los Angeles, CA 91401 | James C. Corman Federal Building, 6230 Van Nuys Boulevard, Los Angeles, CA 91401.
United States Courthouse, 40 Centre Street, New York, NY 10007 | Thurgood Marshall United States Courthouse, 40 Centre Street, New York, NY 10007.
Federal Building and United States Courthouse, 121 West Spring Street, New Albany, IN 47150 | Lee H. Hamilton Federal Building and United States Courthouse, 121 West Spring Street, New Albany, IN 47150.
Federal Building and United States Courthouse, 100 1st Street, SW, Minot, ND 58701 | Judge Bruce M. Van Sickle Federal Building and United States Courthouse, 100 1st Street, SW, Minot, ND 58701.
Federal Building and United States Courthouse, 315 S. McDuffie Street, Anderson, SC 29621 | G. Ross Anderson, Jr. Federal Building and United States Courthouse, 315 S. McDuffie Street, Anderson, SC 29621.
Federal Building and United States Courthouse, 550 West Fort Street, Boise, ID 83724 | James A. McClure Federal Building and United States Courthouse, 550 West Fort Street, Boise, ID 83724.

Dated: January 30, 2002.
Stephen A. Perry,
Administrator of General Services.

[FR Doc. 02-2659 Filed 2-4-02; 8:45 am]

BILLING CODE 6820-EP-P